DEPARTMENT OF ENERGY

Federal Energy Regulatory Commission

Notice of Attendance at NYISO Meetings

October 27, 2009.

The Federal Energy Regulatory Commission hereby gives notice that members of the Commission and Commission staff may attend the following upcoming NYISO meetings:

• NYISO Business Issues Committee.

• November 5 (Rensselaer, NY).

• December 5 (Rensselaer, NY).

• NYISO Management Committee.

• October 28 (Rensselaer, NY).

• November 19 (Rensselaer, NY).

• December 30 (Rensselaer, NY).

• NYISO ICAP Working Group.

• November 3 (Rensselaer, NY).

• December 8 (Rensselaer, NY).

• NYISO Operating Committee.

• November 12 (Rensselaer, NY).

• December 10 (Rensselaer, NY).

• NYISO Transmission Planning Advisory Committee.

• November 3 (Rensselaer, NY).

• December 1 (Rensselaer, NY).

For additional meeting information, see http://www.nyiso.com/public/committees/calendar/index.jsp.

The discussions at each of the meetings described above may address matters at issue in pending proceedings including the following:

Docket Nos. EL07-39 and ER08-695, New York Independent System Operator, Inc.

Docket No. EL09-57, Astoria Gas Turbine Power LLC v. New York Independent System Operator, Inc.

Docket No. ER09-1142, New York Independent System Operator, Inc.

Docket No. ER09-1682, New York Independent System Operator, Inc.

Docket Nos. ER01-3001-021/ER03-647-012 and ER01-3001-022/ER03-647-013, New York Independent System Operator, Inc.

Docket No. ER09-405, New York Independent System Operator, Inc.

Docket No. ER04-449, New York Independent System Operator, Inc.

Docket No. OA08-52; New York Independent System Operator, Inc.

Docket No. OA09-26; New York Independent System Operator, Inc.

The meetings are open to stakeholders. For more information, contact Jesse Hensley, Office of Energy Markets Regulation, Federal Energy Regulatory Commission at (202) 502-6228 or Jesse.Hensley@ferc.gov.

Kimberly D. Bose,
Secretary.

[FR Doc. E9-26361 Filed 11-2-09; 8:45 am]

BILLING CODE 6717-01-P